DEPARTMENT OF THE INTERIOR

Minerals Management Service

Notice of Minerals Management Service Production Data Workshop

AGENCY: Minerals Management Service, Interior.

ACTION: Notice of public workshop.

SUMMARY: The Minerals Management Service (MMS) is announcing an opportunity for producers to participate in a production data workshop. The purpose of the workshop is to gather comments and input from a variety of stakeholders and the public. Information about the workshop, registration, and the agenda is available on our Web site at http://www.mrm.mms.gov/ReportingServices/ETFormProd.htm.

DATE: Tuesday, December 5, 2006, from 9 a.m. to 4 p.m. central time.

ADDRESSES: The workshop will be held at the Minerals Revenue Management office, 4141 N. Sam Houston Parkway East, Suite 202, Houston, Texas.

FOR FURTHER INFORMATION CONTACT: Lorraine Corona, Minerals Management Service, Minerals Revenue Management, P.O. Box 25165, MS 350B1, Denver, Colorado 80225-0165, telephone (303) 231-3671, FAX (303) 462-9889, or e-mail lorraine.corona@mms.gov.

SUPPLEMENTARY INFORMATION: The availability of accurate and current oil and gas production data from Federal and Indian leases is an ongoing issue of concern to MMS, the Bureau of Land Management, and the oil and gas industry. This workshop will provide an opportunity for discussion of options for streamlining and/or improving the process of collecting and disseminating oil and gas production data. The reporting of production and shut-in statistics during hurricanes will also be discussed. The workshop will include breakout sessions to identify and facilitate discussion of short/mid/long-term possible solutions. Attendees will be able to comment on the scope, proposed action, and possible alternatives MMS should consider. We will post the workshop minutes and comments on our Web site at http://www.mrm.mms.gov.

Due to security requirements, attendees will need a picture ID to be admitted into Suite 202. The site for the public workshop is accessible to individuals with physical impairments. If you need a special accommodation to participate in the workshop (e.g., interpretive service, assistive listening device, or materials in alternative format), please notify Ms. Corona no later than 2 weeks prior to the scheduled workshop. Although we will make every effort to accommodate requests received, it may not be possible to meet every request.

Dated: November 1, 2006.
Lucy Querques Denett,
Associate Director for Minerals Revenue Management.

[FR Doc. E6-20042 Filed 11-27-06; 8:45 am]

BILLING CODE 4310-MR-P